DEPARTMENT OF ENERGY

Federal Energy Regulatory Commission

[Project No. 925-010]

City of Ottumwa, Iowa; Notice Soliciting Scoping Comments

December 5, 2006.

Take notice that the following hydroelectric application has been filed with the Commission and is available for public inspection.

a. Type of Application: New License.

b. Project No.: P-925-010.

c. Date filed: April 26, 2006.

d. Applicant: City of Ottumwa, Iowa.

e. Name of Project: Ottumwa Hydroelectric Project.

f. Location: On the Des Moines River in the City of Ottumwa, Wapello County, Iowa. The project does not occupy federal lands.

g. Filed Pursuant to: Federal Power Act, 16 U.S.C. 791 (a)-825(r).

h. Applicant Contact: Richard Wilcox, Ottumwa Water and Hydro, 230 Turner Drive, Ottumwa, Iowa 52501, (641) 684-4606.

i. FERC Contact: Tim Konnert, (202) 502-6359 or timothy.konnert@ferc.gov.

j. Deadline for filing scoping comments: January 4, 2007.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “eFiling” link.

k. This application is not ready for environmental analysis at this time.

l. The existing Ottumwa Project consists of: (1) An 18-foot-high dam with a 641-foot-long spillway section equipped with eight Taintor gates and one bascule gate; (2) a powerhouse integral to the dam containing three generating units, unit 1 and unit 3 each rated at 1,000 kW and unit 2 rated at 1,250 kW; (3) a 125-acre reservoir with a normal water surface elevation of 638.5 feet msl; and (4) appurtenant facilities. The applicant estimates that the average annual generation would be 10,261,920 kilowatt hours using the three generating units with a combined capacity of 3,250 kW.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov.esubscribenow.htm to be notified via e-mail of new filings and issuances related to this or other pending projects. For assistance, contact FERC Online Support.

o. Scoping Process—The Commission staff intends to prepare a single Environmental Assessment (EA) for the Ottumwa Project in accordance with the National Environmental Policy Act. The EA will consider both site-specific and cumulative environmental impacts and reasonable alternatives to the proposed action.

Commission staff do not propose to conduct any on-site scoping meetings at this time. Instead, we are soliciting comments, recommendations, and information, on the Scoping Document (SD) issued on December 1, 2006.

Copies of the SD outlining the subject areas to be addressed in the EA were distributed to the parties on the Commission's mailing list and the applicant's service list. Copies of the SD may be viewed on the web at http://www.ferc.gov using the “eLibrary” link. Enter the docket number excluding the last three digits in the docket number field to access the document. For assistance, call 1-866-208-3676 or for TTY, (202) 502-8659.

Magalie R. Salas,
Secretary.

[FR Doc. E6-21072 Filed 12-11-06; 8:45 am]

BILLING CODE 6717-01-P